DEPARTMENT OF HEALTH AND HUMAN SERVICES

Administration for Community Living

Agency Information Collection Activities; Submission for OMB Review; Public Comment Request; Title VI Program Performance Report (OMB 0985-0007)

AGENCY: Administration for Community Living, HHS.

ACTION: Notice.

SUMMARY: The Administration for Community Living is announcing that the proposed collection of information listed above has been submitted to the Office of Management and Budget (OMB) for review and clearance as required under section 506(c)(2)(A) of the Paperwork Reduction Act of 1995. This 30-Day notice collects comments on the information collection requirements related to the reinstatement without change of the Title VI Program Performance Report.

DATES: Submit written comments on the collection of information by 11:59 p.m. (EST) or postmarked by November 23, 2020.

ADDRESSES: Submit written comments on the collection of information by:

(a) Email to: OIRA_submission@omb.eop.gov, Attn: OMB Desk Officer for ACL;

(b) fax to 202.395.5806, Attn: OMB Desk Officer for ACL; or

(c) by mail to the Office of Information and Regulatory Affairs, OMB, New Executive Office Bldg., 725 17th St. NW, Rm. 10235, Washington, DC 20503, Attn: OMB Desk Officer for ACL.

FOR FURTHER INFORMATION CONTACT: Leslie Green, Administration for Community Living, leslie.green@acl.hhs.gov, 202-868-9384.

SUPPLEMENTARY INFORMATION: In compliance with 44 U.S.C. 3507, ACL has submitted the following proposed collection of information to OMB for review and clearance. ACL is responsible for administering the Title VI Program Performance Report. The purpose of this data collection is to fulfill the annual programmatic reporting required by the Title VI Part A/B and C grants to American Indians, Alaskan Native and Native Hawaiian Programs to provide nutrition, supportive services and caregiver services to elders and their caregivers.

Comments in Response to the 60-Day Federal Register Notice

ACL published a 60-day Federal Register Notice in the Federal Register soliciting public comments on this reinstatement without change request. The 60-day FRN published on July 15, 2020 Volume 85, Number 136, pages 42857-42858; ACL did not receive any public comments during the 60-day FRN.

The proposed data collection tools may be found on the ACL website for review at https://www.acl.gov/about-acl/public-input.

Estimated Program Burden

There are 282 respondents taking 3.49 hours each to complete the response.

ACL estimates the burden associated with this collection of information as follows:

Respondent/data collection activity | Number of respondents | Responses per respondent | Hours per response | Annual burden hours
Title VI PPR | 282 | 1 | 3.49 | 984
Total: |  |  |  | 984

Dated: October 15, 2020.
Mary Lazare,
Principal Deputy Administrator.

[FR Doc. 2020-23471 Filed 10-22-20; 8:45 am]

BILLING CODE 4154-01-P